FEDERAL COMMUNICATIONS COMMISSION

[WC Docket No. 04-36, CG Docket No. 03-123, WT Docket No. 96-198 and CC Docket No. 92-105; DA 09-749]

IP-Enabled Services; Implementation of Sections 255 and 251(a)(2) of the Communications Act of 1934, as Enacted by the Telecommunications Act of 1996: Access to Telecommunications Service, Telecommunications Equipment and Customer Premises Equipment by Persons With Disabilities; Telecommunications Relay Services and Speech-to-Speech Services for Individuals With Hearing and Speech Disabilities

AGENCY: Federal Communications Commission.

ACTION: Notice.

SUMMARY: In this document, the Commission, via the Consumer and Governmental Affairs Bureau, seeks comment on the petition for extension of waiver filed with the Commission by AT&T Inc. (AT&T) and Sprint Nextel Corporation (Sprint) (Petition). The Petition requested a one-year extension of the current waiver of the Commission's rules to the extent that provision requires traditional telecommunications relay service (TRS) providers (those providing relay service via the public switched telephone network and a text telephone (TTY)) to automatically and immediately call an appropriate Public Safety Answering Point (PSAP) when receiving an emergency 711-dialed call placed by an interconnected voice over Internet Protocol (VoIP) user. The Commission seeks comment on the remaining technical, operational, or other issues that currently prevent traditional TRS providers from being able to reliably identify the appropriate PSAP to call when receiving an emergency call via 711 and an interconnected VoIP service. The Commission also seeks comment regarding the usage of traditional TRS to place calls through interconnected VoIP service, particularly the incidence of such calls for purposes of obtaining emergency assistance.

DATES: Comments are due on or before May 28, 2009 and reply comments are due on or before June 8, 2009.

ADDRESSES: Interested parties may submit comments and reply comments identified by [WC Docket No. 04-36, CG Docket No. 03-123, WT Docket No. 96-198 and CC Docket No. 92-105], by any of the following methods:

• Federal eRulemaking Portal: http://www.regulations.gov. Follow the instructions for submitting comments.

• Federal Communications Commission's Web site: http://www.fcc.gov/cgb/ecfs/. Follow the instructions for submitting comments.

• Parties who choose to file by paper should also submit their comments on a compact disc. The compact discs should be submitted, along with three paper copies, to: Dana Wilson, Consumer and Governmental Affairs Bureau, Disability Rights Office, 445 12th Street, SW., Room 3-C418, Washington, DC 20554. Such a submission should be on a compact disc formatted in an IBM compatible format using Word 2003 or compatible software. The compact disc should be accompanied by a cover letter and should be submitted in “read only” mode. The compact disc should be clearly labeled with the commenter's name, the proceedings (including the docket numbers) in this case, [WC Docket No. 04-36, CG Docket No. 03-123, WT Docket No. 96-198, and CC Docket No. 92-105], type of pleading (comment or reply comment), date of submission, and the name of the electronic file on the compact disc. The label should also include the following phrase “Disc Copy—Not an Original.” Each compact disc should contain only one party's pleadings, preferably in a single electronic file. In addition, paper filers must send compact disc copies to the Commission's copy contractor, Portals II, 445 12th Street, SW., Room CY-B402, Washington, DC 20554.

For detailed instructions for submitting comments and additional information on the rulemaking process, see the SUPPLEMENTARY INFORMATION section of this document.

FOR FURTHER INFORMATION CONTACT: Lisa Boehley, Consumer and Governmental Affairs Bureau at (202) 418-7395 (voice), or e-mail: Lisa.Boehley@fcc.gov.

SUPPLEMENTARY INFORMATION: Pursuant to §§ 1.415 and 1.419 of the Commission's rules, 47 CFR 1.415 and 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number, which in this instance [WC Docket No. 04-36, CG Docket No. 03-123, WT Docket No. 96-198, and CC Docket No. 92-105]. Parties may also submit an electronic comment by Internet e-mail. To get filing instructions, filers should send an e-mail to ecfs@fcc.gov, and include the following words in the body of the message, “get form your e-mail address.” A sample form and directions will be sent in response.

• Paper Filers: Parties who choose to file by paper must file an original and four copies of each filing. If more than one docket or rulemaking number appears in the caption in this proceeding, filers must submit two additional copies of each additional docket or rulemaking number.

Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

This is a synopsis of the Commission's document DA 09-749, released April 1, 2009. This document also contains a separate order granting in part the petition for extension of waiver filed by AT&T and Sprint and extending for 90 days (until June 29, 2009) the limited waiver granted to traditional TRS providers in the 2008 TRS 711 Waiver Order. Pursuant to § 1.1206 of the Commission's rules, 47 CFR 1.1206, this proceeding will be conducted as a permit-but-disclose proceeding in which ex parte communications are subject to disclosure.

On June 15, 2007, the Commission released the Report and Order (VoIP TRS Order), published at 72 FR 43546, August 6, 2007, WC Docket No. 04-36, CG Docket No. 03-123, WT Docket No. 96-198 and CC Docket No. 92-105, FCC 07-110. In the VoIP TRS Order, effective October 5, 2007, the Commission extended its pre-existing TRS rules to interconnected VoIP providers, including the duty to offer 711 abbreviated dialing access to TRS. The VoIP TRS Order required interconnected VoIP providers to offer 711 abbreviated dialing “to ensure that TRS calls can be made from any telephone, anywhere in the United States, and that such calls will be properly routed to the appropriate relay center.” In the Order and Public Notice Seeking Comment (October 2007 Order and Notice), released on October 9, 2007, published at 72 FR 61813, November 1, 2007, and 72 FR 61882, November 1, 2007, WC Docket No. 04-36, CG Docket No. 03-123, WT Docket No. 96-198 and CC Docket No. 92-105, DA 07-4178, the Commission clarified the 711 abbreviated dialing requirement adopted in the VoIP TRS Order and granted interconnected VoIP providers a six-month waiver of the requirement to route the inbound leg of a 711-dialed call to an “appropriate TRS provider,” as defined by the Commission. The Commission also determined that the geographic location identification challenges associated with interconnected VoIP-originated 711 calls rendered traditional TRS providers unable to consistently identify the “appropriate” PSAP to which to route such calls. On this basis, the Commission found good cause to grant traditional TRS providers a six-month waiver of the obligation set forth in § 64.604(a)(4) of its rules to automatically and immediately route the outbound leg of an interconnected VoIP-originated emergency 711 call to an “appropriate” PSAP.

In the Order (2008 TRS 711 Waiver Order), released on April 4, 2008, published at 73 FR 28057, May 15, 2008, WC Docket No. 04-36, CG Docket No. 03-123, WT Docket No. 96-198 and CC Docket No. 92-105, DA 07-4178, the Commission granted interconnected VoIP providers an extension of time, until March 31, 2009, to route 711-dialed calls to an appropriate relay center, in the context of 711-dialed calls in which the calling party is using a non-geographically relevant telephone number or a nomadic interconnected VoIP service. The Commission also granted traditional TRS providers an extension of time, until March 31, 2009, to fulfill their obligation to implement a system to automatically and immediately call an appropriate PSAP when receiving an emergency 711-dialed call via an interconnected VoIP service.

On March 20, 2009, AT&T and Sprint filed a petition seeking a one-year extension of the waiver of § 64.604(a)(4) of the Commission's rules to the extent that provision requires traditional TRS providers to automatically and immediately route to an appropriate PSAP emergency 711-dialed calls placed by interconnected VoIP users.

The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contractor at Portals II, 445 12th Street, SW, Room CY-B402, Washington, DC 20554. Customers may contact the Commission's contractor at their web site www.bcpiweb.com or by calling 1-800-378-3160. A copy of the underlying petition for waiver may also be found by searching ECFS at http://www.fcc.gov/cbg.ecfs. To request materials in accessible formats for people with disabilities (Braille, large print, electronic files, audio format), send an e-mail to fcc504@fcc.gov or call the Consumer and Governmental Affairs Bureau at (202) 418-0530 (voice), (202) 418-0432 (TTY). This document can also be downloaded in Word or Portable Document Format (PDF) at: http://www.fcc.gov/cgb/dro/trs.html#orders.

Synopsis

In this document, the Commission seeks comment on the remaining technical, operational, or other issues that currently prevent traditional TRS providers from being able to reliably identify the appropriate PSAP to call when receiving an emergency call via 711 and an interconnected VoIP service. In particular, comment is sought on the specific steps that remain to be taken in order for traditional TRS providers to be able to consistently route interconnected VoIP-originated 711 emergency calls in the manner prescribed by § 64.604(a)(4) of the Commission's rules. The Commission also asks providers for an estimate of the costs and the timeframe associated with each of these steps. Further, the Commission seeks comment from interconnected VoIP providers and TRS providers regarding the total number of interconnected VoIP-originated 711 TRS calls that are processed annually by each provider (estimates, if actual figures are unavailable) and the proportion of those calls that are of an emergency nature.

The Commission also seeks comment from interconnected VoIP providers and TRS providers, as well as from consumers and disability rights advocates, concerning the continuing use of TTYs by individuals with hearing or speech disabilities and, in particular, the use of TTYs with an interconnected VoIP service. The Commission seeks comment on the overall effectiveness of providers' outreach efforts in educating consumers about the importance of dialing 911 directly in an emergency, rather than dialing 711 to place an emergency call via TRS.

Further, commenters are encouraged to comment on any impediments consumers have encountered in attempting to dial 911 directly in an emergency situation (when using a TTY and an interconnected VoIP service). Finally, the Commission seeks comment on the continuing need, from the consumer's perspective, of dialing 711 via TRS in an emergency, rather than dialing 911 directly.

Federal Communications Commission.
Catherine Seidel,
Chief, Consumer and Governmental Affairs Bureau.

[FR Doc. E9-10504 Filed 5-6-09; 8:45 am]

BILLING CODE 6712-01-P